Proclamation 9901 of May 31, 2019

National Ocean Month, 2019

By the President of the United States of America

A Proclamation

The ocean supports millions of American jobs across numerous industries, including commercial fishing, recreation and tourism, international trade, shipping, ports, energy, and other maritime commerce. During National Ocean Month, we recognize the importance of the ocean to the economy, national security, and environment of the United States, and we renew our commitment to safeguarding its vital resources.

America is, and will always be, one of the world's preeminent seafaring nations. All of our Nation's citizens benefit from our access to the ocean. With more than 13,000 miles of coastline and 3.4 million nautical square miles of ocean within our territorial jurisdiction, our country's exclusive economic zone is the largest in the world. Together, our oceans and the Great Lakes generate $320 billion in economic activity. That is one reason why my Administration is committed to developing new, innovative ways to protect our native aquatic species, reduce our reliance on foreign fish imports, and keep our fishery industry strong.

Over the last few years, we have made important strides in learning more about our ocean and our Nation's coastal waters, supporting our ocean economy, and promoting good stewardship of our waters for current and future generations. Last year, I signed an Executive Order to advance ocean-related scientific research and to promote greater engagement of Federal agencies with State-led regional ocean partnerships. Importantly, our Federal agencies are continuing efforts to make ocean-related information publicly available, which will help support commerce, energy development, and conservation efforts.

Additionally, my Administration is determined to conserve, manage, and balance America's use of the ocean through enhanced mapping and exploration. With an emphasis on engaging with the private sector, we are leveraging resources and expertise to advance our understanding of the ocean and to support the ocean-related scientific and technological enterprise. Through American innovation and investment in ocean science and technology, we will reinforce our economic competitiveness, strengthen our national security, protect our environment, and preserve our continued prosperity.

NOW, THEREFORE, I, DONALD J. TRUMP, President of the United States of America, by virtue of the authority vested in me by the Constitution and the laws of the United States, do hereby proclaim June 2019 as National Ocean Month. This month, I call upon Americans to reflect on the value and importance of oceans not only to our security, environment, and economy but also as a source of recreation, enjoyment, and relaxation.

IN WITNESS WHEREOF, I have hereunto set my hand this thirty-first day of May, in the year of our Lord two thousand nineteen, and of the Independence of the United States of America two hundred forty-third.

[FR Doc. 2019-11985

Filed 6-4-19; 11:15 am]

Billing code 3295-F9-P